NATIONAL AERONAUTICS AND SPACE ADMINISTRATION

[Notice (02-107)]

Conduct of Employees, Notice of Waiver Pursuant to Section 207(j)(5), Title 18, United States Code

AGENCY: National Aeronautics and Space Administration.

ACTION: Notice.

SUMMARY: The Administrator of the National Aeronautics and Space Administration (NASA) has determined, after consultation with the Director of the Office of Government Ethics, that it is in the national interest to waive the post-employment restriction of section 207(c), Title 18, United States Code, with respect to the former International Space Station Expedition Commander for Expedition 3, Frank Culbertson.

FOR FURTHER INFORMATION CONTACT: Laurie P. Rafferty, Office of the General Counsel, NASA Headquarters, Washington, DC 20546, 202-358-2028.

SUPPLEMENTARY INFORMATION: Section 207(j)(5) of Title 18 of the United States Code authorizes the Administrator of the National Aeronautics and Space Administration to waive the post-employment restriction of section 207(c), to permit a former employee with outstanding qualifications in a scientific, technological, or other technical discipline to make communications solely for the purpose of furnishing scientific or technological information to NASA where it has been determined that the national interest would be served by such communications from the former employee.

It has been established to my satisfaction that Frank Culbertson, the former International Space Station (ISS) Expedition Commander for Expedition 3, has outstanding technological qualifications in a scientific, technological or other discipline. These qualifications include: serving as an Astronaut for 18 years; serving as Program Manager for the Shuttle-Mir Phase 1 ISS Program; being the Commander of Expedition 3 of the ISS and Deputy Program Manager for Operations of ISS; serving on four Space Shuttle mission flights; serving as Lead Astronaut for the Shuttle Avionics Laboratory; serving in key roles in the Challenger accident investigation; and assisting in the development of the Shuttle docking system and the Landing Rollout Systems. I am further satisfied that, as the Program Manager for Science Applications International Corporation (SAIC) on the Safety, Reliability and Quality Assurance (SR&QA) contract between SAIC and NASA, Mr. Culbertson will be required to utilize those qualifications in the performance of his duties and that it will be in the national interest to permit him to communicate scientific or technological information to NASA officials on this contract.

I have, therefore, after consultation with the Office of Government Ethics, waived the post-employment prohibition of section 207(c) of Title 18 of the United States Code in order to permit direct communications for the purpose of furnishing scientific or technological information by Mr. Culbertson to employees of NASA concerning the SR&QA contract.

Dated: September 12, 2002.
Sean O'Keefe,
NASA Administrator.

[FR Doc. 02-23600 Filed 9-16-02; 8:45 am]

BILLING CODE 7510-01-P